DEPARTMENT OF DEFENSE

Department of the Army

Draft Environmental Impact Statement (DEIS) for the Base Realignment and Closure (BRAC) 05 Actions at Fort Monroe, VA

AGENCY: Department of the Army, DoD.

ACTION: Notice of Availability (NOA).

SUMMARY: The Department of the Army announces the availability of the DEIS, which evaluates the potential environmental and socioeconomic impacts of BRAC actions at Fort Monroe, Virginia.

DATES: The public comment period for the DEIS will end 45 days after publication of an NOA in the Federal Register by the U.S. Environmental Protection Agency. Public meeting date is: October 6, 2009, 7 p.m. to 9 p.m., Hampton Roads Convention Center, 1610 Coliseum Drive, Hampton, VA.

ADDRESSES: Please send written comments on the DEIS to: Ms. Robin Mills, Chief, Directorate of Public Works, 318 Cornog Lane, Fort Monroe, VA 23651. E-mail comments should be sent to monr.post.nepapublic@us.army.mil.

FOR FURTHER INFORMATION CONTACT: Ms. Robin Mills, Chief, Directorate of Public Works, 318 Cornog Lane, Fort Monroe, VA 23651. E-mail comments should be sent to monr.post.nepapublic@us.army.mil.

SUPPLEMENTARY INFORMATION: The DEIS covers activities associated with the BRAC actions at Fort Monroe, Virginia. The 2005 BRAC Commission recommended the closure of Fort Monroe and the relocation of the U.S. Army Training and Doctrine Command (TRADOC) Headquarters; the Installation Management Agency (IMA) Northeast Region Headquarters; the U.S. Army Network Enterprise Technology Command (NETCOM) Northeast Region Headquarters; and the Army Contracting Agency Northern Region Office to Fort Eustis, VA. The 2005 BRAC Commission also recommended the U.S. Army Accessions Command and U.S. Army Cadet Command relocate to Fort Knox, KY. Under BRAC, closure will be no later than September 15, 2011.

Following closure, Fort Monroe will be surplus to Army needs and the Army will dispose of its real property interests. The Army has recognized the Fort Monroe Federal Area Development Authority (FMFADA) as the local reuse authority for reuse planning. The FMFADA Fort Monroe Reuse Plan was approved by the Governor in August 2008 and is available at: http://www.fmfada.com/business/reuse_planning/.

Fort Monroe is a 570-acre U.S. Army Garrison located on Old Point Comfort at the southeastern tip of the Virginia Lower Peninsula between Hampton Roads and the Lower Chesapeake Bay. The Fort Monroe property is still almost completely surrounded by the waters of the lower Chesapeake Bay, the harbor of Hampton Roads, and Mill Creek. The installation's northern extension ties into land in the city of Hampton and the community of Buckroe Beach.

The primary Army action is to dispose of the surplus Federal property generated by the BRAC-mandated closure of Fort Monroe. Reuse of Federal property at Fort Monroe by others is a secondary action resulting from disposal. The Army identified two disposal alternatives (early transfer and traditional disposal), a caretaker status alternative and the no action alternative. The reuse scenarios encompass the FMFADA's Reuse Plan and include higher and lower levels of development intensities. The Army expresses no preference with respect to reuse scenarios. The EIS analyzes each alternative's impact upon the natural and cultural environments in the surrounding vicinity.

Four alternatives are analyzed in the DEIS: (1) An early transfer alternative, under which transfer and reuse of the property would occur before environmental remedial action has been completed; (2) a traditional disposal alternative, under which transfer and reuse of the property would occur once environmental remediation is complete for individual parcels of the installation; (3) a caretaker status alternative, which would arise in the event that the Army is unable to dispose of all or portions of the property within the period of time defined for initial caretaking, after which time the maintenance of the property would be reduced to minimal activities necessary to ensure security, health, and safety, and to avoid physical deterioration of facilities; and (4) a no action alternative, under which the Army would continue operations at Fort Monroe at levels similar to those occurring prior to the BRAC Commission's recommendation for closure. Three reuse scenarios (based on low, middle, and upper bracket intensity scenarios of reuse) are evaluated as secondary actions of disposal of Fort Monroe. These reuse scenarios bracket the intensity of reuse expected under the FMFADA's reuse plan.

The evaluated resource areas include land use, aesthetics and visual resources, air quality, noise, geology and soils, water resources, biological resources, cultural resources, socioeconomics, transportation, utilities, and hazardous and toxic substances. Direct and indirect impacts of each disposal alternative on the resource areas include a variety of short- and long-term impacts, both adverse and beneficial. Under the early transfer and traditional disposal alternatives, minor to significant adverse effects would be expected in the areas of noise and transportation. For the caretaker status alternative, minor adverse effects would be expected to occur for all resources areas with the exception of minor beneficial effects estimated for air quality and noise. The no action alternative would result in no new adverse direct, indirect, or cumulative impacts. The three reuse scenarios evaluated have the potential for a variety of adverse and beneficial short- and long-term effects.

The Army invites the public, local governments, and state and Federal agencies to submit written comments or suggestions concerning the alternatives and analyses addressed in the DEIS. The public and government agencies also are invited to participate in a public meeting where oral and written comments and suggestions will be received. Copies of the DEIS will be available for review at Hampton, VA, libraries prior to the public meeting. The DEIS may also be viewed online at: http://www.hqda.army.mil/acsimweb/brac/nepa_eis_docs.htm.

Dated: September 2, 2009.
Addison D. Davis, IV,
Deputy Assistant Secretary of the Army (Environment, Safety, and Occupational Health).

[FR Doc. E9-21931 Filed 9-11-09; 8:45 am]

BILLING CODE 3710-08-M